NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on September 20-21, 2018. Tentative agenda items to be discussed during the public session include: (1) Medical-related events; (2) an update on nursing mother guidelines; (3) licensing of thorium-227 chloride; (4) an update on the yttrium-90 microspheres licensing guidance revision; and (5) status of the NRC's training and experience (T&E) evaluation and stakeholder outreach plans for T&E. The agenda is subject to change. The current agenda and any updates will be available at http://www.nrc.gov/reading-rm/doc-collections/acmui/meetings/2018.html or may be requested by emailing Ms. Lisa Dimmick at the contact information below.

Purpose: Discuss issues related to 10 CFR part 35, Medical Use of Byproduct Material.

Date and Time for Open Sessions: September 20, 2018, from 8:30 a.m. to 3:00 p.m. and September 21, 2018, from 8:30 a.m. to 3:30 p.m. Eastern Standard Time.

Date and Time for Closed Sessions: September 20, 2018, from 8:00 a.m. to 8:30 a.m. and 3:30 p.m. to 5:00 .pm.

Address for Public Meeting: U.S. Nuclear Regulatory Commission, One White Flint North Building, Commission Hearing Room, 11545 Rockville Pike, Rockville, Maryland 20852.

Public Participation: Any member of the public who wishes to participate in the meeting in person or via phone should contact Ms. Dimmick using the information below. The meeting will also be webcast live at https://video.nrc.gov/.

Contact Information: Lisa Dimmick, email: lisa.dimmick@nrc.gov, telephone: (301) 415-0694.

Conduct of the Meeting

Christopher J. Palestro, M.D. will chair the meeting. Dr. Palestro will conduct the meeting in a manner that will facilitate the orderly conduct of business. The following procedures apply to public participation in the meeting:

1. Persons who wish to provide a written statement should submit an electronic copy to Ms. Dimmick using the contact information listed above. All submittals must be received by September 17, 2018, three business days before the meeting, and must pertain to the topics on the agenda for the meeting.

2. Questions and comments from members of the public will be permitted during the meeting, at the discretion of the Chairman.

3. The draft transcript and meeting summary will be available on ACMUI's website http://www.nrc.gov/reading-rm/doc-collections/acmui/meetings/2018.html on or about November 2, 2018.

4. Persons who require special services, such as those for the hearing impaired, should notify Ms. Dimmick of their planned attendance.

This meeting will be held in accordance with the Atomic Energy Act of 1954, as amended (primarily Section 161a); the Federal Advisory Committee Act (5 U.S.C. App); and the Commission's regulations in title 10 of the Code of Federal Regulations, part 7.

Dated at Rockville, Maryland, this 20th day of July 2018.
For the Nuclear Regulatory Commission.
Russell E. Chazell,
Federal Advisory Committee Management Officer.

[FR Doc. 2018-15884 Filed 7-24-18; 8:45 am]

BILLING CODE 7590-01-P